DEPARTMENT OF THE INTERIOR

Bureau of Land Management

[AK-020-1610-DO]

Notice of Intent To Prepare a Supplement to the Northeast National Petroleum Reserve-Alaska Amended Integrated Activity Plan/Environmental Impact Statement

AGENCY: Bureau of Land Management, Interior.

ACTION: Notice of Intent.

SUMMARY: The Bureau of Land Management (BLM), Alaska State Office, is preparing a supplemental Integrated Activity Plan/Environmental Impact Statement (IAP/EIS) for the Northeast portion of the National Petroleum Reserve-Alaska (NPR-A).

DATES: Comments regarding the concerns of the public on issues of interest, particularly recommended mitigation measures, should be received in writing by January 8, 2007.

ADDRESSES: Written comments regarding additional mitigation measures should be submitted to: Northeast NPR-A Planning Team Leader, 222 West 7th Avenue, #13, Anchorage, Alaska 99513-7599.

Before including your address, telephone number, e-mail address, or other personal identifying information in your comment, be advised that your entire comment—including your personal identifying information—may be made publicly available at any time. Individual respondents may request confidentiality. If you wish to request that the Bureau of Land Management (BLM) consider withholding your name, street address, and other contact information (such as: Internet address, fax or phone number) from public review or disclosure under the Freedom of Information Act, you should prominently state at the beginning of your comment that you wish to request confidentiality. While you can ask in your comment to withhold from public review your personal identifying information, we cannot guarantee that we will be able to do so.

FOR FURTHER INFORMATION, CONTACT: Jim Ducker (907-271-3130) by phone or by mail at 222 W. 7th Avenue, #13, Anchorage, AK 99513-7599.

SUPPLEMENTARY INFORMATION: The BLM published the Northeast NPR-A Amended IAP/EIS in January 2005 and issued a Record of Decision (ROD) for Northeast NPR-A planning area based upon the IAP/EIS on January 11, 2006. On September 25, 2006, the U.S. District Court for the District of Alaska vacated the January 2006 ROD and enjoined the Secretary from further action in the Northeast NPR-A under that ROD. The primary deficiency identified by the court concerned the failure to adequately address certain cumulative impacts associated with development in the adjacent Northwest NPR-A. The supplemental IAP/EIS will provide additional analysis necessary to fully address the deficiencies noted by the court and update relevant sections of the document with any new information. Any final decision will consider the full range of alternatives contained in the January 2005 Amended IAP/EIS, as informed by this new analysis.

While scoping is not required for supplements to environmental impact statements (40 CFR 1502.9(c)(4)), BLM is inviting comments on the supplement. Commenters are especially encouraged to identify measures that could reduce impacts to resources or uses that could be impacted by oil and gas and other activities in both the Northeast and Northwest NPR-A planning areas. The agency seeks specific, rather than general, recommendations as to stipulations, operating procedures, and other mitigating measures that the BLM could consider to further its goal of reducing impacts.

Authority: Federal Land Policy and Management Act of 1976 (43 U.S.C. 1701 et seq.), as amended; the National Environmental Policy Act of 1969 (42 U.S.C. 4321 et seq.), as amended; Title I of the Naval Petroleum Reserves Production Act of 1976 (42 U.S.C. 6501 et seq.), as amended by the Department of the Interior and Related Agencies Appropriations Act for Fiscal Year 1981, Pub. L. 96-514, 94 Stat. 2957, 2964 (codified in 42 U.S.C. 6508); the Alaska National Interest Lands Conservation Act, Pub. L. 96-487, 94 Stat. 2371, section 810, 16 U.S.C. 3120; and the regulations governing protection of resources in the NPR-A at 43 CFR parts 2360 and the regulations governing oil and gas leasing in the NPR-A at 43 CFR part 3130.

Julia Dougan,
Acting State Director.

[FR Doc. E6-20468 Filed 12-1-06; 8:45 am]

BILLING CODE 4310-JA-P